DEPARTMENT OF LABOR

Employment and Training Administration

[TA-W-70,989; TA-W-70,989A; TA-W-70,989B]

Klaussner Furniture Industries, Inc., Plant #3, Asheboro, NC; Klaussner Furniture Industries, Inc., Plant #33, Asheboro, NC; Klaussner Corporate Services, Inc., Also Known as Klaussner of Iowa, a Division of Klaussner Furniture Industries, Inc., Milford, IA; Amended Certification Regarding Eligibility To Apply for Worker Adjustment Assistance

In accordance with Section 223 of the Trade Act of 1974, as amended (“Act”), 19 U.S.C. 2273, the Department of Labor issued a Certification of Eligibility to Apply for Worker Adjustment Assistance on August 26, 2009, applicable to workers of Klaussner Furniture Industries, Inc., Plant #3, Asheboro, North Carolina (TA-W-70,989) and Klaussner Furniture Industries, Inc., Plant #33, Asheboro, North Carolina (TA-W-70,989A). The Department's Notice was published in the Federal Register on November 5, 2009 (74 FR 57340).

At the request of a company official, the Department reviewed the certification for workers of the subject firm.

New information shows that the Milford, Iowa facility operates in conjunction with the Asheboro, North Carolina facilities. The Asheboro, North Carolina facilities supplied component parts for the Milford, Iowa facility in the assembly of furniture produced by the subject firm. Further, all workers at the Milford, Iowa facility experienced separations (total or partial), or the threat of such separations, and the subject firm's sales and production were impacted by an increase in imports of upholstered household goods.

Accordingly, the Department is amending the certification to include workers of the Milford, Iowa facility of Klaussner Furniture Industries, Inc.

The amended notice applicable to TA-W-70,989 is hereby issued as follows:

“All workers of Klaussner Furniture Industries, Inc., Plant #3, Asheboro, North Carolina (TA-W-70,989), who became totally or partially separated from employment on or after February 14, 2009, through two years from the date of certification, and all workers in the group threatened with total or partial separation from employment on the date of certification through two years from the date of certification, are eligible to apply for adjustment assistance under Chapter 2 of Title II of the Trade Act of 1974, as amended;” and

“All workers of Klaussner Furniture Industries, Plant #33, Asheboro, North Carolina (TA-W-70,989A), and Klaussner Corporate Services, Inc., also known as Klaussner of Iowa, a division of Furniture Industries, Inc., Milford, Iowa (TA-W-70,989B) who became totally or partially separated from employment on or after June 2, 2009, through two years from the date of certification, and all workers in the group threatened with total or partial separation from employment on the date of certification through two years from the date of certification, are eligible to apply for adjustment assistance under Chapter 2 of Title II of the Trade Act of 1974, as amended.”

Signed in Washington, DC this 26th day of August, 2011.
Del Min Amy Chen,
Certifying Officer, Office of Trade Adjustment Assistance.

[FR Doc. 2011-22560 Filed 9-1-11; 8:45 am]

BILLING CODE 4510-FN-P